SPECIAL INSPECTOR GENERAL FOR IRAQ RECONSTRUCTION

Privacy Act of 1974; Notice of Privacy Act Systems of Records

AGENCY: Special Inspector General for Iraq Reconstruction.

ACTION: Notice.

SUMMARY: The Special Inspector for Iraq Reconstruction (SIGIR) has reviewed its management records to identify its Privacy Act systems and to ensure that all such systems are relevant, necessary, accurate, up-to-date, and covered by the appropriate legal or regulatory authority. This is the first notice published by this agency. It includes three SIGIR-wide systems of records including system managers, office titles, addresses, or locations. These are:

SIGIR-1—Investigative Files

SIGIR-2—Hotline Program Case Files

SIGIR-3—Freedom of Information Act and Privacy Act Request and Appeal Files

DATES: Effective: October 13, 2009.

FOR FURTHER INFORMATION CONTACT: Call or e-mail Kirt West, Deputy General Counsel, Telephone 703-604-0489; e-mail kirt.west@sigir.mil.

ADDRESSES: SIGIR Deputy General Counsel, Office of General Counsel, SIGIR, 400 Army Navy Drive, Arlington, VA 22202-4704.

SUPPLEMENTARY INFORMATION: SIGIR has undertaken an agency-wide review of its records to identify all Privacy Act systems of records. As a result of this review, SIGIR is publishing its first Privacy Act systems of records notice, which includes three of its systems.

Kirt West,
Deputy General Counsel, Special Inspector General for Iraq Reconstruction.

Table of Contents

List of Notices

In addition, the SIGIR (and/or the Army as SIGIR's Support Agent) maintains Systems of Records in accordance with the following government-wide Privacy Act Systems of Records Notices.

Equal Employment Opportunity Commission

EEOC/GOVT-1—Equal Employment Opportunity in the Federal Government Complaint and Appeal Records

General Services Administration

GSA/GOVT-3—Travel Charge Card Program

Merit Systems Protection Board

MSPB/GOVT-1—Appeal and Case Records

Office of Government Ethics

OGE/GOVT-1—Executive Branch Public Financial Disclosure Reports and Other Ethics Program Records

OGE/GOVT-2—Confidential Statements of Employment and Financial Interests

Office of Personnel Management

OPM/GOVT-1—General Personnel Records

OPM/GOVT-2—Employee Performance File System Records

OPM/GOVT-3—Records of Adverse Actions.

OPM/GOVT-5—Recruiting Records

OPM/GOVT-10—Employee Medical File System Records

Blanket Routine Uses

Certain “blanket routine uses” of the records have been established that are applicable to every record system maintained by SIGIR unless specifically stated otherwise within a particular record system.

SIGIR Blanket Routine Uses

Legal and Law enforcement uses

1. To any criminal, civil, or regulatory law enforcement authority (whether Federal, State, local, foreign, or international) when the information is relevant to the recipient entity's law enforcement responsibilities.

2. To any individual or entity when necessary to elicit information that will assist an SIGIR investigation, inspection, audit, or other inquiry.

3. To respond to subpoenas in any litigation or other proceeding.

4. To a court, magistrate, administrative tribunal, grand jury, or opposing counsel, in the course of presenting evidence in such proceedings or in settlement negotiations.

5. To attorneys representing subjects of criminal investigations, except when the SIGIR determines that release is inappropriate under Title 5, U.S. Code Sections 552a(j) and (k).

6. To the Integrity Committee of the Council of Inspectors General on Integrity and Efficiency (CIGIE), another Federal Office of Inspector General, or other Federal law enforcement office in connection with an investigation, inquiry or review conducted pursuant to authorized CIGIE activity.

7. To a Federal agency responsible for considering debarment or suspension action if the record would be relevant to such action.

8. To inform complainants, victims, and witnesses of the status or results of an investigation or inquiry.

9. To inform another agency regarding the status of a case or matter that has been referred by that agency for investigation or other inquiry or that involves a case or matter within the jurisdiction of that agency to notify it of the status of the case or matter or of any decision that has been made or to respond to other inquiries and reports as necessary during the processing of the case or matter.

10. To the news media and the public when there exists a legitimate public interest (e.g., to provide information on events in the criminal process, such as an indictment) or when the IG determines that such disclosure is necessary to preserve confidence in the integrity of the Inspector General process, to demonstrate the accountability of SIGIR employees, officers or individuals covered by the system, or when necessary to prevent an imminent threat to life and property, unless it is determined that release of specific information would constitute an unwarranted invasion of personal privacy.

Hiring and qualification

11. To a Federal, State, local, foreign, or international governmental or self-regulatory agency which requires information relevant to a decision concerning the hiring, appointment or retention of an employee or contractor, disciplinary or other administrative action concerning an employee, the reporting of an investigation of an employee, the letting of a contract, or the issuance of a license, grant or other benefit by the requesting agency, to the extent that the information is relevant and necessary to the requesting agency's decision in the matter.

12. To any individual or entity when necessary to elicit information relevant to an SIGIR decision concerning the hiring, appointment, or retention of an individual; the issuance, renewal, suspension or revocation of a security clearance; or the letting of a contract.

Congress and Other Agencies

13. To a Congressional office in response to an inquiry made at the request of an individual but only from the record of that individual.

14. To the Department of Justice and/or any component thereof or to the Office of General Counsel of another government entity for the purpose of representing SIGIR or any officer or employee of SIGIR in pending or potential litigation to which the record is pertinent, or to obtain its advice on any matter.

15. To the Office of Management and Budget for the purpose of obtaining its advice on Privacy Act matters.

16. To the Office of Government Ethics (OGE) to comply with agency reporting requirements established by OGE in 5 CFR Part 2638, subpart F.

17. To the Equal Employment Opportunity Commission (EEOC) in connection with investigations of alleged or possible discriminatory practices, examination of Federal affirmative action programs, compliance with Uniform Guidelines of Employee Selection Procedures, or other functions vested in the Commission by the President's Reorganization Plan of 1978.

18. To the Merit Systems Protection Board (MSPB), and Office of Special Counsel (OSC), if properly requested in connection with appeals, special studies of the civil service, and other merit system, reviews of rules or regulations, investigation of alleged or possible prohibited personnel practices, and such other functions promulgated in Title 5, U.S. Code Sections 1205 and 1206, or as may be authorized by law.

19. To a Federal, State, local, or foreign or international agency, or other public authority, for use in computer matching programs to prevent and detect fraud and abuse in any agency program and to collect debts and overpayments owed to any agency or its components.

20. To a foreign country pursuant to an international treaty or other agreement entered into or ratified by the United States, or to an Executive agreement.

Contractors and Other Individuals

21. To independent auditors or other qualified organizations or individuals with which the SIGIR has contracted or agreed to carry out an independent audit, or to provide support for audits, reviews, investigations, peer reviews, or other services. These contractors will be required to maintain Privacy Act safeguards with respect to such records.

22. To such agencies, entities and persons to whom disclosure is reasonably necessary to assist in SIGIR's efforts to respond to suspected or confirmed compromise of and prevent, minimize, or remedy any harm to the security and confidentiality of an SIGIR system of records.

SIGIR-1

SYSTEM NAME:

SIGIR Investigative Files.

SECURITY CLASSIFICATION:

The majority of the information in the system is Sensitive but unclassified; however, there is some classified information as well.

SYSTEM LOCATION:

Office of the Assistant Inspector General for Investigations, SIGIR, 2011 Crystal Drive, Suite #1101, Arlington, VA 22202-4704. During the course of an investigation, records may also be kept in the investigative field office in Baghdad, Iraq. Contact information for Iraq may be found on http://www.sigir.mil/contact/Default.aspx.

CATEGORIES OF INDIVIDUALS COVERED BY THIS SYSTEM:

In connection with its investigative duties, the SIGIR maintains records on the following categories of individuals:

a. Individuals or entities who are or have been the subject of investigations conducted by the SIGIR, including current and former employees of the SIGIR, Department of Defense (DOD), Department of State (DOS), the United States Agency for International Development (USAID) and other agencies in those areas where SIGIR has jurisdiction; current and former consultants, contractors, and subcontractors with whom the SIGIR or one of the above-mentioned agencies has contracted and their employees; and such other individuals or entities whose association with the SIGIR relates to alleged violation(s) of the Federal rules of conduct, the Civil Service merit system, and/or criminal or civil law, which may affect the integrity or physical facilities of the SIGIR and the agencies and entities in those areas where SIGIR has jurisdiction.

b. Individuals who are or have been witnesses, complainants, or informants in investigations conducted by the SIGIR.

c. Individuals or entities that have been identified as potential subjects of or parties to a SIGIR investigation.

CATEGORIES OF RECORDS IN THE SYSTEM:

Information relating to investigations including:

a. Letters, memoranda, and other documents describing complaints or alleged criminal, civil, or administrative misconduct.

b. Investigative files which include: Reports of investigations and related exhibits, statements, affidavits, and records obtained during an investigation.

AUTHORITY FOR MAINTENANCE OF THE SYSTEM:

SIGIR's enabling legislation, § 3001 of the Emergency Supplemental Appropriations Act for Defense and for the Reconstruction of Iraq and Afghanistan, 2004 (Pub. L. 108-106; 117 Stat. 1209, 1234-1238; 5 U.S.C. app. 8G note), as cumulatively amended, and the Inspector General Act of 1978, as amended, Public Law 95-452, 5 U.S.C. App. 3. Title 5 U.S.C. 552 and 552a. Title 5 U.S.C. 301.

PURPOSE(S):

The purpose of this system of records is to enable the SIGIR to carry out its mandate under its enabling legislation, as amended, and Inspector General Act, as amended. The system will consist of files and records compiled by the SIGIR on DOD, DOS, USAID, and other Federal employees or other persons who are of interest in an investigation for fraud and abuse with respect to the programs and operations for which SIGIR has jurisdiction.

ROUTINE USES OF RECORDS MAINTAINED IN THE SYSTEM, INCLUDING CATEGORIES OF USERS AND THE PURPOSE OF SUCH USES:

In addition to those disclosures generally permitted under 5 U.S.C. 552a(b) of the Privacy Act the records or information contained therein may specifically be disclosed outside the SIGIR as a “blanket” routine use pursuant to 5 U.S.C. 552a(b)(3) as described above.

POLICIES AND PRACTICES FOR STORING, RETRIEVING, ACCESSING, RETAINING, AND DISPOSING OF RECORDS IN THE SYSTEM:

STORAGE:

SIGIR Investigative Files consist of paper records maintained in folders, binders and logbooks; various records in electronic form; and an automated data base. The folders, binders and logbooks are stored in SIGIR's file cabinets and offices. The automated data base and electronic records are maintained on a file server and backup tapes in encrypted form.

RETRIEVABILITY:

The records are retrieved by the name of the subject of the investigation or inquiry, or by a unique control number assigned to each investigation or inquiry.

SAFEGUARDS:

These records are available only to those persons whose official duties require such access. The records are kept in limited access areas during duty hours and in locked file rooms or locked offices at all other times.

RETENTION AND DISPOSAL:

The Investigative Files shall be kept in accordance with SIGIR's record retention schedule.

SYSTEM MANAGER(S) AND ADDRESS:

Assistant Inspector General for Investigations, SIGIR, 400 Army Navy Drive, Arlington, VA 22202-4704.

NOTIFICATION PROCEDURES:

Individuals seeking to determine whether information about themselves is contained in this system of records should address written inquiries to Kirt West, Deputy General Counsel, Office of General Counsel, SIGIR, 400 Army Navy Drive, Arlington, VA 22202-4704. The request should contain the individual's full name and address. Requests submitted on behalf of other persons must include their written authorization.

RECORD ACCESS AND CONTESTING PROCEDURES:

Persons wishing to obtain information on the procedures for gaining access to or contesting the contents of this record may contact Kirt West, Deputy General Counsel, Office of General Counsel, SIGIR, 400 Army Navy Drive, Arlington, VA 22202-4704.

RECORD SOURCE CATEGORIES:

Information in these records is supplied by: Individuals including, where practicable, those to whom the information relates; witnesses, corporations and other entities; records of individuals and of the various Federal agencies for which SIGIR has jurisdiction; records of other entities; Federal, foreign, State or local bodies and law enforcement agencies; documents and correspondence relating to litigation; transcripts of testimony; and miscellaneous other sources.

EXEMPTIONS CLAIMED FOR THE SYSTEM:

Pursuant to 5 U.S.C. 552a(j)(2), this system of records, to the extent it pertains to the enforcement of criminal laws, is exempted from all provisions of the Privacy Act of 1974, 5 U.S.C. 552a, except subsections (b), (c)(1) and (2), (e)(4)(A) through (F), (e)(6), (7), (9), (10), and (11), and (i).

Pursuant to 5 U.S.C. 552a(k)(2), this system of records to the extent it consists of investigatory material compiled for law enforcement purposes, is exempted from the following provisions of the Privacy Act of 1974, 5 U.S.C. 552a(c)(3), (d), (e)(1), (e)(4)(G), (H), and (I), and (f) other than material within the scope of the exemption at 5 U.S.C. 552a(j)(2).

SIGIR-2

SYSTEM NAME:

SIGIR Hotline Program Case Files.

SECURITY CLASSIFICATION:

The majority of the information in the system is Sensitive but unclassified.

SYSTEM LOCATION:

Office of the Deputy Assistant Inspector General for Inspections, SIGIR, 2011 Crystal Drive, Suite #1101, Arlington, VA 22202-4704.

CATEGORIES OF INDIVIDUALS COVERED BY THIS SYSTEM:

Individuals filing hotline complaints; individuals alleged to have been involved in or witness to criminal or administrative misconduct, including, but not limited to, fraud, waste, or mismanagement.

CATEGORIES OF RECORDS IN THE SYSTEM:

In connection with its investigative duties, the SIGIR maintains records resulting from the referral of, and inquiry into, hotline complaints, such as the date of the complaint; the hotline control number; the name of the complainant; the actual allegations; referral documents to other agencies requesting investigation into SIGIR Hotline complaints; referral documents from other agencies transmitting reports, which normally contains the name of the examining official(s) assigned to the case; background information regarding the investigation itself, such as the scope of the investigation, relevant facts discovered, information received from witnesses, and specific source documents reviewed; the investigator's findings, conclusions, and recommendations; and the disposition of the case; and internal SIGIR or other agency Hotline forms documenting review and analysis of SIGIR reports received from other agencies.

AUTHORITY FOR MAINTENANCE OF THE SYSTEM:

SIGIR's enabling legislation, § 3001 of the Emergency Supplemental Appropriations Act for Defense and for the Reconstruction of Iraq and Afghanistan, 2004 (Pub. L. 108-106; 117 Stat. 1209, 1234-1238; 5 U.S.C. app. 8G note), as cumulatively amended, and the Inspector General Act of 1978, as amended, Public Law 95-452, 5 U.S.C. App. 3. Title 5 U.S.C. 552 and 552a. Title 5 U.S.C. 301.

PURPOSE(S):

The purpose of this system of records is to record information related to official hotline investigations; to compile statistical information to disseminate to other agencies, including the Council of Inspectors General for Integrity and Efficiency (CIGIE); to provide prompt, responsive, and accurate information regarding the status of ongoing cases; and to provide a record of complaint disposition.

ROUTINE USES OF RECORDS MAINTAINED IN THE SYSTEM, INCLUDING CATEGORIES OF USERS AND THE PURPOSE OF SUCH USES:

In addition to those disclosures generally permitted under 5 U.S.C. 552a(b) of the Privacy Act the records or information contained therein may specifically be disclosed outside the SIGIR as a “blanket” routine use pursuant to 5 U.S.C. 552a(b)(3), as set forth in SIGIR's System of Records Notice SIGIR-1-Investigative Files.

POLICIES AND PRACTICES FOR STORING, RETRIEVING, ACCESSING, RETAINING, AND DISPOSING OF RECORDS IN THE SYSTEM:

STORAGE:

SIGIR Hotline Files consist of paper records maintained in folders, binders and logbooks; various records in electronic form; and an automated data base. The folders, binders and logbooks are stored in SIGIR's file cabinets and offices. The automated data base and electronic records are maintained on a file server and backup tapes in encrypted form.

RETRIEVABILITY:

The records are retrieved by the name of the subject of the investigation or inquiry, the name of the complainant, if available, or by a unique control number assigned to each hotline allegation or inquiry.

SAFEGUARDS:

These records are available only to those persons whose official duties require such access. The records are kept in limited access areas during duty hours and in locked file rooms or locked offices at all other times. The automated system is password protected, and regular back-ups of data are performed.

RETENTION AND DISPOSAL:

Hotline case files are kept in accordance with SIGIR's record retention schedule.

SYSTEM MANAGER(S) AND ADDRESS:

Deputy Assistant Inspector General for Inspections, SIGIR, 400 Army Navy Drive, Arlington, VA 22202-4704.

NOTIFICATION PROCEDURES:

Individuals seeking to determine whether information about themselves is contained in this system of records should address written inquiries to Kirt West, Deputy General Counsel, Office of General Counsel, SIGIR, 400 Army Navy Drive, Arlington, VA 22202-4704. The request should contain the individual's full name and address. Requests submitted on behalf of other persons must include their written authorization.

RECORD ACCESS AND CONTESTING PROCEDURES:

Persons wishing to obtain information on the procedures for gaining access to or contesting the contents of this record may contact Kirt West, Deputy General Counsel, Office of General Counsel, SIGIR, 400 Army Navy Drive, Arlington, VA 22202-4704.

RECORD SOURCE CATEGORIES:

Information in these records is supplied by: Individuals including, where practicable, those to whom the information relates; witnesses, corporations and other entities; records of individuals and of the various Federal agencies for which SIGIR has jurisdiction; records of other entities; Federal, foreign, State or local bodies and law enforcement agencies; documents and correspondence relating to investigations; and miscellaneous other sources.

EXEMPTIONS CLAIMED FOR THE SYSTEM:

Pursuant to 5 U.S.C. 552a(j)(2), this system of records, to the extent it pertains to the enforcement of criminal laws, is exempted from all provisions of the Privacy Act of 1974, 5 U.S.C. 552a, except subsections (b), (c)(1) and (2), (e)(4)(A) through (F), (e)(6), (7), (9), (10), and (11), and (i).

Pursuant to 5 U.S.C. 552a(k)(2), this system of records to the extent it consists of investigatory material compiled for law enforcement purposes, is exempted from the following provisions of the Privacy Act of 1974, 5 U.S.C. 552a(c)(3), (d), (e)(1), (e)(4)(G), (H), and (I), and (f) other than material within the scope of the exemption at 5 U.S.C. 552a(j)(2).

SIGIR-3

SYSTEM NAME:

Freedom of Information Act and Privacy Act Request and Appeal Files.

SYSTEM LOCATION:

Office of the Chief Freedom of Information Act Officer, SIGIR, 2011 Crystal Drive, Suite #1101, Arlington, VA 22202-4704.

CATEGORIES OF INDIVIDUALS COVERED BY THE SYSTEM:

All persons requesting information from SIGIR or filing appeals under the Freedom of Information Act (FOIA) or Privacy Act.

CATEGORIES OF RECORDS IN THE SYSTEM:

Copies of each FOIA or Privacy Act request received and of all correspondence related to the requests, including name, affiliation address, telephone numbers, e-mail addresses, and other information about a requester. A computerized index includes the name and affiliation of each requester, the request identification number, and the subject of the request.

AUTHORITY FOR MAINTENANCE OF THE SYSTEM:

Title 5 U.S.C. 552 and 552a.

PURPOSE(S):

To respond to FOIA and Privacy Act requests and to prepare reports on FOIA and Privacy Act activities.

ROUTINE USES OF RECORDS MAINTAINED IN THE SYSTEM, INCLUDING CATEGORIES OF USERS, AND THE PURPOSES OF SUCH USES:

In addition to those disclosures generally permitted under 5 U.S.C. 552a(b) of the Privacy Act, the records or information contained therein may specifically be disclosed outside the SIGIR as a “blanket” routine use pursuant to 5 U.S.C. 552a(b)(3), as set forth in SIGIR's System of Records Notice SIGIR-1-Investigative Files.

RECORDS MAY ALSO BE DISCLOSED:

1. To another Federal agency (a) with an interest in the record in connection with a referral of a Freedom of Information Act (FOIA) request to that agency for its views or decision on disclosure, or (b) in order to obtain advice and recommendations concerning matters on which the agency has specialized experience or particular competence that may be useful to SIGIR in making required determinations under the FOIA.

POLICIES AND PRACTICES FOR STORING, RETRIEVING, ACCESSING, RETAINING, AND DISPOSING OF RECORDS IN THE SYSTEM:

STORAGE:

SIGIR FOIA and Privacy Act request and Appeal files consist of paper records maintained in file folders; various records in electronic form; and an automated computer database.

RETRIEVABILITY:

The records are retrieved by name of requester and request identification number.

SAFEGUARDS:

These records are available only to persons whose official duties require such access. The records are kept in limited access areas during duty hours and in locked file rooms or locked offices at all other times. Computer records are maintained in a secure, password protected computer system.

RETENTION AND DISPOSAL:

FOIA and Privacy Act Request and Appeal Records are maintained in accordance with SIGIR's records retention schedule.

SYSTEM MANAGER AND ADDRESS:

Chief Freedom of Information Act Officer, SIGIR, 400 Army Navy Drive, Arlington, VA 22202-4704.

NOTIFICATION PROCEDURES:

Any individual who wants to know whether this system of records contains a record about him or her, who wants access to his or her record, or who wants to contest the contents of a record, should make a written request to the Chief Freedom of Information Act Officer.

RECORD ACCESS AND CONTESTING PROCEDURES:

Requesters will be required to provide adequate identification, such as a driver's license, employee identification card, or other identifying document. Additional identification procedures may be required in some instances. Requests for correction or amendment must identify the record to be changed and the corrective action sought.

RECORD SOURCE CATEGORIES:

Information in these records is supplied by Freedom of Information Act and Privacy Act requesters and related correspondence from the record subject(s) and from SIGIR offices.

[FR Doc. E9-21955 Filed 9-10-09; 8:45 am]

BILLING CODE 3710-8N-P